DEPARTMENT OF HEALTH AND HUMAN SERVICES

Substance Abuse and Mental Health Services Administration

Fiscal Year (FY) 2003 Funding Opportunity

AGENCY: Substance Abuse and Mental Health Services Administration, HHS.

ACTION: Notice of funding availability for a Cooperative Agreement to Supplement the Technical Assistance Resource Center for the Prevention of Violence and Behavioral Health Problems.

SUMMARY: The Substance Abuse and Mental Health Services Administration (SAMHSA), Center for Mental Health Services (CMHS), announces the availability of FY 2003 funds for the cooperative agreement described below. A synopsis of this funding opportunity, as well as many other Federal Government funding opportunities, is also available at the Internet site: http://www.fedgrants.gov.

This notice is not a complete description of the program; potential applicants must obtain a copy of the Request for Applications (RFA), including Part I, Cooperative Agreement to Supplement the Technical Assistance Resource Center for the Prevention of Violence and Behavioral Health Problems, Part II, General Policies and Procedures Applicable to all SAMHSA applications for Discretionary Grants and Cooperative Agreements, and the PHS 5161-1 (Rev. 7/00) application form before preparing and submitting an application.

Funding Opportunity Title: Cooperative Agreement to Supplement the Technical Assistance Resource Center for the Prevention of Violence and Behavioral Health Problems—Short Title: Supplement to the Behavioral Health Promotion TA Center.

Funding Opportunity Number: SM 03-013.

Catalog of Federal Domestic Assistance (CFDA) Number: 93.243.

Authority: Section: 520A and 581 of the Public Health Service Act, as amended and subject to the availability of funds.

Funding Opportunity Description: The Substance Abuse and Mental Health Services Administration (SAMHSA), Center for Mental Health Services (CMHS), is accepting a program supplement to enhance the existing Resource Center's capacity to work with Safe Schools/Healthy Students (SS/HS) grantees on three distinct projects: (1) to work with project directors and local evaluators to develop a monograph that documents local evaluation efforts to disseminate the monograph; (2) to develop a SS/HS project directors manual; and (3) to continue research on sustainability issues specific to SS/HS.

Eligible Applicants: Only the Education Development Center, Inc., 55 Chapel Street, Newton, MA 02458 can apply.

The Safe Schools Healthy Students (SS/HS) initiative first received funding in 1999. Each grantee is required to evaluate its SS/HS activities to ensure that it is meeting the goals and objectives presented in its application as well as the initiative as a whole. Some grantees include measures that attempt to determine whether the initiative has been successful in preventing or reducing youth violence. While a national evaluation of the SS/HS initiative is under way, no organization has reviewed the evaluations conducted by local grant sites. The activities of this RFA are designed to supplement and complement the national evaluation effort. In order to answer questions from Congress and the General Accounting Office, this effort must be completed rapidly. Given the compressed timeframe in which this activity is needed and the limited resources, SAMHSA believes it is more efficient and cost effective to use an organization already firmly grounded in the objectives of the SS/HS initiative and one that has existing relationships with the SS/HS grantee sites. This familiarity with the program and the grantees will allow the current technical assistance center to more rapidly complete the needed work.

Additionally, this Request for Applications (RFA) proposes that the grantee organization will develop a manual for SS/HS project directors as well as identifying sustainability issues and resources unique to the SS/HS initiative. Since the identified applicant organization will be required to collaborate with the SS/HS project directors to identify requisite material for this manual and to develop guidance on sustaining the initiative after Federal funding, it is most beneficial to the Government to use an organization with an already established relationship with these project directors. The identified organization is the current technical assistance provider for this initiative and has the experience, background, and relationship with these grantees to collaborate with them on the tasks outlined in this RFA and meet the Government's needs in an expedited fashion. In order to eliminate the potential for confusion that could stem from multiple entities contacting grantees for similar activities, it is in the best interest of the Government to use the existing technical assistance provider.

Due Date for Application: August 15, 2003.

Estimated Funding Available/Number of Awards: It is expected that up to $445,000 will be available for one award in FY 2003 (both direct and indirect costs). If the application proposes a budget that exceeds $445,000, it will be returned without review.

Is Cost Sharing Required: No.

Period of Support: Funding may be requested for up to 2 years. The continuation award will depend on the availability of funds and progress achieved.

How to Get Full Announcement and Application Materials: Complete application kits may be obtained by calling: the SAMHSA Mental Health Information Center at (800) 789-2647, Monday through Friday, 8:30 a.m. to 5 p.m., e.d.t.; TDD: (301) 443-9006; Fax: (301) 984-8796; P.O. Box 42490, Washington, DC 20015. The PHS 5161-1 application form and the full text of the funding announcement are also available electronically via SAMHSA's World Wide Web Home Page: http://www.samhsa.gov (Click on “Grant Opportunities”).

When requesting an application kit, the applicant must specify the funding opportunity title and number for which detailed information is desired. All information necessary to apply, including where to submit applications and application deadline instructions, are included in the application kit.

FOR FURTHER INFORMATION CONTACT: Brenda Bruun, Substance Abuse and Mental Health Services Administration, Center for Mental Health Services, 5600 Fishers Lane, Room 17C-26, Rockville, MD 20857, (301) 443-4669, E-mail: bbruun@samhsa.gov.

Dated: July 7, 2003.
Anna Marsh,
Acting Executive Officer, Substance Abuse and Mental Health Services Administration.

[FR Doc. 03-17641 Filed 7-10-03; 8:45 am]

BILLING CODE 4162-20-P